CONSUMER PRODUCT SAFETY COMMISSION

Sunshine Act Meetings

FEDERAL REGISTER CITATION OF PREVIOUS ANNOUNCEMENT: Vol. 75, No. 146, Friday July 30, 2010, page 44941.

ANNOUNCED TIME AND DATE OF MEETING: 10 a.m.-12 Noon, Wednesday August 4, 2010.

CHANGES TO MEETING: Agenda Item 2. Strategic Plan Has Been Postponed.

For a recorded message containing the latest agenda information, call (301) 504-7948.

CONTACT PERSON FOR ADDITIONAL INFORMATION: Todd A. Stevenson, Office of the Secretary, 4330 East West Highway, Bethesda, MD 20814 (301) 504-7923.

Dated: August 4, 2010.
Todd A. Stevenson,
Secretary.

[FR Doc. 2010-19734 Filed 8-5-10; 4:15 pm]

BILLING CODE 6355-01-P